DEPARTMENT OF AGRICULTURE

Forest Service

Proposed Recreation Fee Sites

AGENCY: Forest Service, USDA.

ACTION: Notice.

SUMMARY: The Boise National Forest is proposing to establish several recreation fee sites. Proposed recreation fees collected at the proposed recreation fee sites would be used for operation, maintenance, and improvement of the sites. An analysis of nearby recreation fee sites with similar amenities shows the proposed recreation fees that would be charged at the new recreation fee sites are reasonable and typical of similar recreation fee sites in the area.

DATES: If approved, the proposed recreation fees would be established no earlier than six months following the publication of this notice in the Federal Register.

ADDRESSES: Boise National Forest, Attention: Recreation Fees, 1249 South Vinnell Way, Suite 200, Boise, Idaho 83709.

FOR FURTHER INFORMATION CONTACT: Everado Santillan, Recreation Program Manager, (208) 373-4100 or everardo.santillan@usda.gov.

SUPPLEMENTARY INFORMATION: The Federal Lands Recreation Enhancement Act (16 U.S.C. 6803(b)) requires the Forest Service to publish a six-month advance notice in the Federal Register of establishment of proposed recreation fee sites. In accordance with Forest Service Handbook 2309.13, Chapter 30, the Forest Service will publish the proposed recreation fee sites and proposed recreation fees in local newspapers and other local publications for public comment. Most of the proposed recreation fees would be spent where they are collected to enhance the visitor experience at the proposed recreation fee sites.

A proposed expanded amenity recreation fee of $10 per night would be charged for Golden Gate, Yellow Pine, Ice Hole, Penn Basin, Picnic Point, Evans Creek, Ice Springs, and Spillway Campgrounds. A proposed expanded amenity recreation fee of $20 per night would be charged for Little Roaring River Lake and Deer Creek Campgrounds. A proposed expanded amenity recreation fee of $40 per night is proposed for double campsites at Deer Creek Campground. A proposed expanded amenity recreation fee of $150 per night for groups of up to 100 people would be charged for Deer Creek Group Campground. In addition, a proposed expanded amenity recreation fee of $100 per night would be charged for rental of Landmark South, Landmark West, and Atlanta Host Cabins, an expanded amenity recreation fee of $80 per night would be charged for rental of the Landmark Forester Cabin, and an expanded amenity recreation fee of $60 per night would be charged for rental of Whitehawk Lookout and Big Trinity Cabin #2.

A proposed standard amenity recreation fee of $5 per day and $30 for an annual pass per vehicle would be charged at French Creek Boat Launch, Deer Creek Boat Launch at Anderson Reservoir, Rainbow Point Boat Launch, Elk Creek Boat Launch, which have the requisite amenities for a standard amenity recreation fee but not for an expanded amenity recreation fee. A proposed standard amenity recreation fee of $5 per day and $30 for an annual pass per vehicle would also be charged for Stack Rock developed recreation site. The Boise National Forest Day Use Pass and the America the Beautiful-the National Parks and Federal Recreational Lands Pass would be honored at these standard amenity recreation fee sites.

Expenditures of recreation fees collected at the proposed recreation fee sites would enhance recreation opportunities, improve customer service, and address maintenance needs. Once public involvement is complete, the proposed recreation fee sites and proposal recreation fees will be reviewed by a Recreation Resource Advisory Committee prior to a final decision and implementation. Reservations for the campgrounds, lookout, and cabins could be made online at www.recreation.gov or by calling (877) 444-6777. Reservations would cost $8.00 per reservation.

Dated: July 26, 2024.
Jacqueline Emanuel,
Associate Deputy Chief, National Forest System.

[FR Doc. 2024-16869 Filed 7-31-24; 8:45 am]

BILLING CODE 3411-15-P